DEPARTMENT OF DEFENSE

Department of the Army, Corps of Engineers

Notice of Intent and Notice of Preparation for an Environmental Impact Statement and Environmental Impact Report for a Proposed Flood Damage Reduction Investigation in Stanislaus County, California

AGENCY: U.S. Army Corps of Engineers, DoD.

ACTION: Notice of intent.

SUMMARY: The objectives of this project are to identify a flood reduction plan that will yield a sound project, both functionally and economically, to reduce flood damages to the populated towns of Newman and Patterson, California, and the surrounding agricultural land. The intent of this project is to improve the hydraulic conveyance of the Orestimba, Salado, and Del Puerto Creeks. Environmental restoration may be a component of the plan if a sponsor can be identified.

FOR FURTHER INFORMATION CONTACT: Questions about the proposed action and EIS/EIR can be directed to Josh Garcia at (916) 557-6778 or sent to U.S. Army Corps of Engineers, Planning Division, ATTN: CESPK-PD-R, 1325 J Street, Sacramento, California 95814-2922.

SUPPLEMENTARY INFORMATION:

1. Proposed Action

The Corps, in cooperation with the local sponsor (Stanislaus County), is conducting a feasibility investigation on the alternative flood damage reduction measures identified during the expedited reconnaissance phase and described in the Project Study Plan dated September 1998. This flood control investigation proposes to reduce the flood hazards currently associated with floodflows along Oristemba, Salado, and Del Puerto Creeks.

2. Alternatives

The feasibility report will address an array of alternatives. Alternatives analyzed during the feasibility investigation will be a combination of one or more flood reduction measures identified during the reconnaissance phase; additional measures may be considered. These alternative measures include detention basins, hydraulic system modifications, creek widening, structural modifications, and snag clearing.

a. No Action. there will be no flood control projects implemented for west Stanislaus County.

b. Detention basin and hydraulic system modifications are proposed for Salado Creek. This alternative focuses on safely conveying floodflows from the Salado creek foothills to the San Joaquin River.

c. Detention basin, creek widening, and structural modifications are proposed for Oristemba Creek. This alternative focuses on conveying floodflaws from the Oristemba Creek foothills to the San Joaquin River.

d. Multipurpose detention basin and hydraulic system modifications are proposed for Del Puerto Creek. This alternative focuses on safely conveying floodflows from the Del Puerto Creek foothills to the San Joaquin River. Additionally, this alternative will provide water supply, hydroelectric power generation, and recreation for the region.

3. Scoping Process

a. The project plan provides for public scoping and comment. The Corps has initiated a process of involving concerned individuals, local, state, and Federal agencies.

b. Significant issues to be analyzed in depth in the EIS/EIR include appropriate levels of the flood damage reduction, adverse affects on vegetation and wildlife resources, special-status species, esthetics, cultural resources, recreation, and cumulative effects of related projects in the study area.

c. The Corps will consult with the State Historic Preservation Officer, National Marine Fisheries Service, and the U.S. Fish and Wildlife Service to provide a Fish and Wildlife Coordination Act Report as an appendix to the EIS/EIR.

d. A 45-day public review period will be provided for individuals and agencies to review and comment on the draft EIS/EIR. All interested parties responding to this notice and providing a current address will be notified of the draft EIS/EIR circulation.

4. Public Meeting

A public scoping meeting was held on March 3, 1999, in Newman, California. Public support for these proposed projects was strong.

5. Availability

The draft EIS/EIR is scheduled to be available for public review and comment early in calendar year 2002.

Gregory D. Showalter,
Army Federal Register Liaison Officer.

[FR Doc. 01-5118 Filed 3-1-01; 8:45 am]

BILLING CODE 3710-EZ-M